DEPARTMENT OF HOMELAND SECURITY

Federal Emergency Management Agency

[Docket ID FEMA-2010-0056]

Recovery Policy RP9523.12, Debris Operation—Hand-Loaded Trucks and Trailers

AGENCY: Federal Emergency Management Agency, DHS.

ACTION: Notice of availability.

SUMMARY: The Federal Emergency Management Agency (FEMA) is issuing Recovery Policy RP9523.12, Debris Operation—Hand-Loaded Trucks and Trailers.

DATES: This policy is effective April 12, 2010.

ADDRESSES: This final policy is available at http://www.regulations.gov and on FEMA's Web site at http://www.fema.gov. You may also view a hard copy of the final policy at the Office of Chief Counsel, Federal Emergency Management Agency, Room 835, 500 C Street, SW., Washington, DC 20472-3100.

FOR FURTHER INFORMATION CONTACT: Preston Wilson, Federal Emergency Management Agency, 500 C Street, SW., Washington, DC 20472-3100, 202-646-1648, or via e-mail at Preston.Wilson@dhs.gov.

SUPPLEMENTARY INFORMATION: This policy establishes procedures for reimbursing applicants for eligible debris removal accomplished with trucks and trailers loaded physically by hand, rather than with mechanical equipment.

FEMA previously issued this policy on May 1, 2006. FEMA reviewed this policy according to the established schedule for FEMA Public Assistance policies. Therefore, FEMA requested review and comment on the draft policy in September 2009. FEMA did not receive substantive comments on the policy. This policy does not implement any major changes to the previously effective policy dated May 1, 2006. However, this policy does state that debris monitors should not reduce the capacity of each hand-loaded truck or trailer for debris types that mechanical loading methods cannot significantly reduce volumes.

Authority: 42 U.S.C. 5121-5207; 44 CFR part 206.

Dated: August 31, 2010.
David J. Kaufman,
Director, Office of Policy and Program Analysis, Federal Emergency Management Agency.

[FR Doc. 2010-22584 Filed 9-9-10; 8:45 am]

BILLING CODE 9111-23-P